DEPARTMENT OF ENERGY

Federal Energy Regulatory Commission

[Project No. 13381-000]

Jonathan & Jane Chase; Notice of Preliminary Permit Application Accepted for Filing and Soliciting Comments, Motions To Intervene, and Competing Applications

July 10, 2009.

On March 3, 2009, Jonathan & Jane Chase filed an application pursuant to section 4(f) of the Federal Power Act, proposing to study the feasibility of the Troy Hydroelectric Project No. 13381-000, to be located in the town of Troy on the Missisquoi River in Orleans County, Vermont.

The proposed Troy Hydroelectric Project would consist of: (1) An existing 10-foot-high, 180-foot-long concrete dam with a 134-foot-long spillway; (2) an existing 12-acre impoundment with a normal water surface elevation of 728.2 feet mean sea level; (3) an existing powerhouse containing one generating unit having an installed capacity of 1.0-megawatt; (4) an existing 600-kilovolt, 500-foot-long transmission line; and (5) appurtenant facilities. The project would have an estimated annual generation of 3,200 megawatt-hours.

Applicant Contact: Jonathan & Jane Chase, 361 Goodall Road, Derby Lane, VT 05830; (802) 895-4581.

FERC Contact: Patrick Murphy, (202) 502-8755.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project can be viewed or printed on the “eLibrary” link of Commission's Web site at http://www.ferc.gov/docs-filing/elibrary.asp. Enter the docket number (P-13381-000) in the docket number field to access the document. For assistance, call toll-free 1-866-208-3372.

Kimberly D. Bose,
Secretary.

[FR Doc. E9-16978 Filed 7-16-09; 8:45 am]

BILLING CODE 6717-01-P